DEPARTMENT OF THE INTERIOR

Bureau of Land Management

[AZ-230-07-1610-DQ-081A]

Notice of Availability of the Proposed Resource Management Plans and Final Environmental Impact Statement for the Agua Fria National Monument and Bradshaw-Harquahala Planning Area

AGENCY: Bureau of Land Management, Interior.

ACTION: Notice of availability.

SUMMARY: In accordance with the National Environmental Policy Act of 1969 and the Federal Land Policy and Management Act of 1976, the Bureau of Land Management (BLM) has prepared Proposed Resource Management Plans and a Final Environmental Impact Statement (PRMPs/FEIS) for the Agua Fria National Monument and Bradshaw-Harquahala Planning Area.

DATES: BLM Planning Regulations (43 CFR 1610.5-2) state that any person who participated in the planning process, and has an interest that may be adversely affected, may protest the approval of the resource management plan. The protest must be filed within 30 days of the date that the Environmental Protection Agency publishes this notice in the Federal Register. Instructions for filing of protests are described in the cover letter of the PRMPs/FEIS and included in the “Additional Protest Information” section of this notice. Please consult the BLM's planning regulations at 43 CFR 1610.5-2 for further instructions on protests.

FOR FURTHER INFORMATION CONTACT: Dr. Connie Stone, Bureau of Land Management, Hassayampa Field Office, 21605 North 7th Avenue, Phoenix, Arizona 85027, 623-580-5500.

SUPPLEMENTARY INFORMATION: The two planning areas encompass more than 3 million acres in Maricopa and Yavapai Counties, located in central and western Arizona. The Hassayampa Field Office administers 967,000 surface acres within these planning boundaries, including 70,900 of the 72,344 acres within the Agua Fria National Monument (Monument), which was established by Presidential Proclamation on January 11, 2000. The BLM also retains subsurface (mineral) rights to 346,000 additional acres within the Bradshaw-Harquahala planning area boundaries, and another 181,200 acres of subsurface (mineral) rights north and east of the boundaries, which are addressed in the PRMP/FEIS for the Bradshaw-Harquahala area.

The BLM has prepared two proposed resource management plans, one for the Monument and another for the Bradshaw-Harquahala Planning Area. Both plans are analyzed separately within the same environmental impact statement. BLM developed the PRMPs/FEIS with broad public participation through a 5-year collaborative planning process. In preparing the document, the BLM conducted public meetings and alternatives development workshops, and considered community vision statements developed by several communities within the planning area. The PRMPs address the challenges of managing lands and resources adjacent to Phoenix and other areas of rapid population growth. Specifically, the PRMP for the Monument provides for the protection of its significant cultural and natural resources; the PRMP for the Bradshaw-Harquahala area includes management actions for protecting the natural, cultural, scenic, and recreational values of the area while managing multiple uses in support of communities. Four action alternatives for each PRMP, as well as the No Action alternative for each PRMP, were developed and analyzed for the PRMPs/FEIS.

The PRMP for the Bradshaw-Harquahala Planning Area identifies four new Areas of Critical Environmental Concern (ACECs): Tule Creek ACEC (640 acres); Vulture Mountain ACEC (6,120 acres); Harquahala Mountains ACEC (74,950 acres); and Black Butte ACEC (8,260 acres). The following types of resource use limitations would generally apply to these ACECs: (1) Motorized travel would be permitted only on existing (temporary) or designated open routes; (2) new recreation facilities would be limited to projects that protect ACEC values; (3) new mineral material disposal sites would not be authorized; (4) areas would be unavailable for livestock grazing in the Tule Creek ACEC, and there would be no grazing improvements that would encourage concentrated livestock use in the Harquahala Mountains ACEC; and (5) rock climbing would be prohibited in the Vulture Mountain and Black Butte ACECs to protect wildlife habitat.

The PRMP for the Agua Fria National Monument removes designations of the Perry Mesa ACEC and Larry Canyon ACEC, established in the Phoenix Resource Management Plan (1988). The protective management prescriptions for the two ACECs are incorporated into the Monument PRMP or, in the case of lands and minerals actions, are more restrictive under the Monument Proclamation.

The BLM will prepare two Records of Decision; one for the Agua Fria National Monument and one for the Bradshaw-Harquahala Planning Area.

Copies of the PRMPs and Final Environmental Impact Statement for the Agua Fria National Monument and Bradshaw-Harquahala Planning Area have been sent to affected Federal, State, and local government agencies, and to interested parties. Copies are available for public inspection at 21605 North 7th Avenue, Phoenix, Arizona 85027. Interested persons may also review the PRMP/FEIS on the Internet accessed through links from the Arizona Public Web Pages at http://www.blm.gov/az//st/en.html. Comments on the Draft RMPs/EIS received from the public and internal BLM review were incorporated into the PRMPs. Public comments resulted in the addition of clarifying text, corrections, and changes that did not significantly modify the proposed land use decisions.

Additional Protest Information: E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov.

All protests must be in writing and mailed to the following address:

Regular mail: | Overnight mail:
Director (WO-210), Bureau of Land Management, Attention: Brenda Williams, P.O. Box 66538, Washington, DC 20035 | Director (WO-210), Bureau of Land Management, Attention: Brenda Williams, 1620 L Street, NW., Suite 1075, Washington, DC 20036.

Before including your address, telephone number, e-mail address, or other personal identifying information in your protest, you should be aware that your entire protest—including your personal identifying information—may be made publicly available at any time. While you can ask us in your protest to withhold your personal identifying information from public review, we cannot guarantee that we will be able to do so. All submissions from organizations and businesses, and from individuals identifying themselves as representatives or officials of organizations or businesses, will be available for public inspection in their entirety.

Helen M. Hankins,
Associate State Director.

[FR Doc. E8-18194 Filed 8-7-08; 8:45 am]

BILLING CODE 4310-32-P